DEPARTMENT OF HEALTH AND HUMAN SERVICES

National Institutes of Health

Office of the Director; Amended Notice of Meeting

Notice is hereby given of a change in the meeting of the NIH Blue Ribbon Panel on Conflict of Interest Policies. The previous notice announced the meeting on March 1-2, 2004, open session from 8:30 a.m. on March 1 until 12 noon on March 2, at NIH, 9000 Rockville Pike, Bethesda, Maryland, Building 31C, Conference Room 10, with notification of public comments due February 26.

The meeting will be open until 10 a.m. on March 2. Any person wishing to make a presentation to the panel during the public comment session should notify Charlene French, Office of Science Policy, National Institutes of Health, Building 1, Room 103, Bethesda, Maryland 20892, telephone 301-496-2122 or by e-mail: blueribbonpanel@mail.nih.gov.

Please note that the panel will meet in Executive Session, beginning at 10:15 a.m. on Tuesday, March 2, 2004. The public portion of the meeting will end at 10 a.m. rather than at noon as originally planned.

Dated: February 25, 2004.
LaVerne Y. Stringfield,
Director, Office of Federal Advisory Committee Policy.

[FR Doc. 04-4635 Filed 2-26-04; 8:45 am]

BILLING CODE 4140-01-M